DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in New York, NY; North Brunswick Township and City of New Brunswick, NJ; and Cobb and Fulton Counties, GA. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of FTA actions announced herein for the listed public transportation projects will be barred unless the claim is filed on or before September 12, 2016.

FOR FURTHER INFORMATION CONTACT: Nancy-Ellen Zusman, Assistant Chief Counsel, Office of Chief Counsel, (312) 353-2577 or Terence Plaskon, Environmental Protection Specialist, Office of Environmental Programs, (202) 366-0442. FTA is located at 1200 New Jersey Avenue SE., Washington, DC 20590. Office hours are from 9:00 a.m. to 5:00 p.m., Monday through Friday, except Federal holidays.

SUPPLEMENTARY INFORMATION: Notice is hereby given that FTA has taken final agency actions by issuing certain approvals for the public transportation projects listed below. The actions on the projects, as well as the laws under which such actions were taken, are described in the documentation issued in connection with the projects to comply with the National Environmental Policy Act (NEPA) and in other documents in the FTA administrative record for the projects. Interested parties may contact either the project sponsor or the relevant FTA Regional Office for more information. Contact information for FTA's Regional Offices may be found at https://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice are:

1. Project name and location: East Side Access, New York, NY. Project sponsor: Metropolitan Transportation Authority (MTA). Project description: The East Side Access Project (ESA) will connect the Long Island Rail Road's (LIRR) Main and Port Washington Lines in Queens to a new LIRR terminal beneath Grand Central Terminal in Manhattan. The MTA evaluated various project changes in seven prior technical memoranda. In Technical Memorandum No. 8, the MTA proposed to construct a new elevator that would connect the ESA command center (or Terminal Management Center) in the new LIRR Concourse with the existing Metro North Railroad command center, which is located in the Station Master's Office in Grand Central Terminal. In Technical Memorandum No. 9, the MTA proposed to extend the construction period at 55th Street, between Park and Madison Avenues, by approximately 48 additional months to allow concrete deliveries to the tunnels to facilitate the remaining Manhattan construction work and potentially allow hatch access for construction personnel. In Technical Memorandum No. 10, the MTA proposed a new concrete delivery location on 49th Street between Madison and Park Avenues, and a modification to the design for the entrance located at 415 Madison Avenue. This notice only applies to the discrete actions taken by FTA at this time, as described below. Nothing in this notice affects FTA's previous decisions, or notice thereof, for this project. Final agency actions: FTA determination in each case that neither a supplemental environmental impact statement nor a supplemental environmental assessment is necessary. Supporting documentation: Technical Memorandum No. 8—Command Center Elevator, dated March 26, 2015; Technical Memorandum No. 9—Concrete Deliveries at 55th Street, dated June 8, 2015; and Technical Memorandum No. 10—Concrete Deliveries at 49th Street and 415 Madison Entrance Design Enhancement, dated February 10, 2016.

2. Project name and location: Delco Lead Safe Haven Storage and Re-Inspection Facility, North Brunswick Township and City of New Brunswick, NJ. Project sponsor: New Jersey Transit Corporation. Project description: The proposed project would construct a rail vehicle service and inspection facility and outdoor storage rail track for up to 444 rail vehicles. The project would require the acquisition of eight properties with a combined total area of 42.6 acres. Final agency actions: Section 4(f) determination; a Section 106 Programmatic Agreement, dated September 16, 2015; project-level air quality conformity; and Finding of No Significant Impact, dated February 19, 2016. Supporting documentation: Environmental Assessment, dated December 2015.

3. Project name and location: Connect Cobb Corridor Project, Cobb and Fulton Counties, GA. Project description: The proposed project would build an approximately 25-mile arterial rapid transit (ART) bus system with associated improvements on US 41/Cobb Parkway. The ART system would run from the Kennesaw area to the existing Metropolitan Atlanta Regional Transit Authority Arts Center Station, with the majority of the project operating in a dedicated guideway. Final agency actions: No use determination of Section 4(f) resources; Section 106 finding of no adverse effect; project-level air quality conformity; and Finding of No Significant Impact, dated April 1, 2016.

Lucy Garliauskas,
Associate Administrator Planning and Environment.

[FR Doc. 2016-08537 Filed 4-13-16; 8:45 am]

BILLING CODE P